NATIONAL INDIAN GAMING COMMISSION

25 CFR Part 514

Fees; Correction

AGENCY: National Indian Gaming Commission.

ACTION: Proposed rule; correction.

SUMMARY: On November 13, 2017, the National Indian Gaming Commission published a notice of proposed rulemaking (NPR) regarding fees. The NPR invited the public to submit written comments during a 45-day comment period beginning on the NPR publication date. This document corrects the preamble to reflect the intended 30-day comment period.

DATES: November 20, 2017.

FOR FURTHER INFORMATION CONTACT: Austin Badger, National Indian Gaming Commission; Telephone: 202-632-7003.

SUPPLEMENTARY INFORMATION: In the proposed rule FR Doc. 2017-24363, published on November 13, 2017, the following correction is made:

On page 52253, in the third column, correct the DATES section to read as follows:

Dates: The agency must receive comments on or before December 13, 2017.

Dated: November 13, 2017.
Jonodev O. Chaudhuri,
Chairman.
Kathryn Isom-Clause,
Vice Chair.
E. Sequoyah Simermeyer,
Associate Commissioner.

[FR Doc. 2017-25046 Filed 11-17-17; 8:45 am]

BILLING CODE P